Title 3—

The President

Notice of January 14, 2025

Continuation of the National Emergency With Respect to the Situation in the West Bank

On February 1, 2024, by Executive Order 14115, I declared a national emergency pursuant to the International Emergency Economic Powers Act (50 U.S.C. 1701 et seq.) to deal with the unusual and extraordinary threat to the national security and foreign policy of the United States constituted by the situation in the West Bank.

The situation in the West Bank—in particular high levels of extremist settler violence, forced displacement of people and villages, and property destruction—has reached intolerable levels and constitutes a serious threat to the peace, security, and stability of the West Bank and Gaza, Israel, and the broader Middle East region. These actions undermine the foreign policy objectives of the United States, including the viability of a two-state solution and ensuring Israelis and Palestinians can attain equal measures of security, prosperity, and freedom. They also undermine the security of Israel and have the potential to lead to broader regional destabilization across the Middle East, threatening United States personnel and interests.

The situation in the West Bank continues to pose an unusual and extraordinary threat to the national security and foreign policy of the United States. For this reason, the national emergency declared in Executive Order 14115 of February 1, 2024, must continue in effect beyond February 1, 2025. Therefore, in accordance with section 202(d) of the National Emergencies Act (50 U.S.C. 1622(d)), I am continuing for 1 year the national emergency declared in Executive Order 14115 with respect to the situation in the West Bank.

This notice shall be published in the Federal Register and transmitted to the Congress.

THE WHITE HOUSE,

January 14, 2025.

[FR Doc. 2025-01312

Filed 1-15-25; 11:15 am]

Billing code 3395-F4-P